DEPARTMENT OF DEFENSE

Office of the Secretary

Defense Advisory Committee for the Prevention of Sexual Misconduct; Notice of Federal Advisory Committee Meeting

AGENCY: Under Secretary of Defense for Personnel and Readiness (USD (P&R)), Department of Defense (DoD).

ACTION: Notice of Federal advisory committee meeting.

SUMMARY: The DoD is publishing this notice to announce the following Federal advisory committee meeting of the Defense Advisory Committee for the Prevention of Sexual Misconduct (DAC-PSM) will take place.

DATES: The DAC-PSM will hold an open meeting to the public on Thursday, November 14, 2024, from 9:00 a.m. to 4:00 p.m. Eastern Standard Time (EST).

ADDRESSES: The meeting may be accessed by videoconference. Information for accessing the videoconference will be provided after registering. (Pre-meeting registration is required. See guidance in SUPPLEMENTARY INFORMATION “Meeting Accessibility”.)

FOR FURTHER INFORMATION CONTACT: Dr. Suzanne Holroyd, Designated Federal Officer (DFO), (571) 372-2652 (voice), osd.mc-alex.ousd-p-r.mbx.DAC-PSM@mail.mil (email). Website: www.sapr.mil/DAC-PSM. The most up-to-date changes to the meeting agenda can be found on the website.

SUPPLEMENTARY INFORMATION: This meeting is being held under the provisions of chapter 10 of title 5, United States Code (U.S.C). (commonly known as the “Federal Advisory Committee Act” or “FACA”), title 5, U.S.C., section 552b (commonly known as the “Government in the Sunshine Act”), and 41, Code of Federal Regulations (CFR), section 102-3.140 and 102-3.150.

Availability of Materials for the Meeting: Additional information, including the agenda or any updates to the agenda, is available on the DAC-PSM website (www.sapr.mil/DAC-PSM). Materials presented in the meeting may also be obtained on the DAC-PSM website.

Purpose of the Meeting: The purpose of the meeting is for the DAC-PSM to receive briefings and have discussions on topics related to the prevention of sexual misconduct within the Armed Forces of the United States, and vote on recommendations arising from DAC-PSM studies.

Agenda: The DAC-PSM will hold an open meeting to the public November 14, 2024, from 9:00 a.m. to 4:00 p.m. EST.

9:00-9:15 Meeting Open (Roll Call and Opening Remarks)

9:15-9:45 Discussion: NDAA Study Topics

9:45-10:45 Discussion: DAC-IPAD Prevention Insights from Closed Case Data Analysis and Observations from Site Visits

10:45-11:00 Break

11:00-12:00 Brief: DoD Updates on DAC-PSM 2023 Training Study Recommendations

12:00-1:00 Lunch

1:00-2:00 Brief: NDAA Study Topic on Recruit Pre-Screening

2:00-2:15 Break

2:15-3:45 Committee Discussion and Vote on 2024 Study Recommendations

3:45-4:00 Meeting Close (Closing Remarks)

Meeting Accessibility: Pursuant to 5 U.S.C. 552b, and 41 CFR 102-3.140 through 102-3.165), this meeting is open to the public from 9:00 a.m. to 4:00 p.m. EST on November 14, 2024. The meeting will be held by videoconference. All members of the public who wish to attend must register by contacting DAC-PSM at osd.mc-alex.ousd-p-r.mbx.DAC-PSM@mail.mil or by contacting Dr. Suzanne Holroyd at (571) 372-2652 no later than November 8, 2024 (by 5:00 p.m. EST). Once registered, the web address and/or audio number will be provided.

Special Accommodations: Individuals requiring special accommodations to access the public meeting should contact Dr. Suzanne Holroyd at osd.mc-alex.ousd-p-r.mbx.DAC-PSM@mail.mil or (571) 372-2652 no later than November 8, 2024, (by 5:00 p.m. EST) so that appropriate arrangements can be made.

Written Statements: Pursuant to 41 CFR 102-3.105(j) and section 10(a)(3) of the FACA, the public and interested persons may submit a written statement to the DAC-PSM. Individuals submitting a statement must submit their statement no later than (5:00 p.m. EST), November 8, 2024, to Dr. Suzanne Holroyd at (571) 372-2652 (voice) or to osd.mc-alex.ousd-p-r.mbx.DAC-PSM@mail.mil (email). If a statement pertaining to a specific topic being discussed at the planned meeting is not received by November 8, 2024, then it may not be provided to, or considered by, the Committee during the November 14, 2024 meeting. The DFO will review all timely submissions with the DAC-PSM Chair and ensure such submissions are provided to the members of the DAC-PSM before the meeting. Any comments received by the DAC-PSM will be posted on the DAC-PSM website (www.sapr.mil/DAC-PSM).

Dated: October 7, 2024.
Patricia L. Toppings,
OSD Federal Register Liaison Officer, Department of Defense.

[FR Doc. 2024-23562 Filed 10-10-24; 8:45 am]

BILLING CODE 6001-FR-P